DEPARTMENT OF JUSTICE

Notice of Lodging of Proposed Consent Decree Under the Clean Water Act

On July 8, 2015 the Department of Justice lodged a proposed Consent Decree with the United States District Court for the District of Wyoming in the lawsuit entitled United States v. Cottonwood Creek, Inc., Civil Action No. 2:15-cv-00108-SWS.

In this matter the United States file a Complaint which alleges violations of sections 301(a) and 311(b)(3) of the Clean Water Act (“CWA”), 33 U.S.C. 1311(a) and 1321(b)(3), arising in part from a March 2010 discharge of approximately 162 barrels of oil into an unnamed tributary of the Nowood River from a leak in a pipeline at Cottonwood Creek, Inc.'s onshore pumping facility located in Big Horn County, Wyoming. The Complaint further alleges that Cottonwood Creek had an inadequate Spill Prevention Control and Countermeasure Plan in violation of CWA section 311(b)(7)(C), 33 U.S.C. 1321(b)(7)(C), and 40 CFR part 112, and also lacked a Facility Response Plan in violation of CWA sections 311(j)(5)(A)(i) and (C)(iv), 33 U.S.C. 1321(j)(5)(A)(i) and (C)(iv), and 40 CFR part 112. The proposed Consent Decree resolves all matters alleged in the Complaint for a civil penalty payment of $170,000. Cottonwood Creek Inc. no longer owns the facility. Because the cause of the discharge was promptly corrected and the discharge was adequately remediated, and since the Environmental Protection Agency approved a FRP for the facility, no injunctive relief is required under the proposed settlement.

The publication of this notice opens a period for public comment on the Consent Decree. Comments should be addressed to the Assistant Attorney General, Environment and Natural Resources Division, and should refer to United States v. Cottonwood Creek, Inc., D.J. Ref. No. 90-5-1-1-11197. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department Web site: http://www.justice.gov/enrd/consent-decrees. We will provide a paper copy of the Consent Decree upon written request and payment of reproduction costs. Please mail your request and payment to: Consent Decree Library, U.S. DOJ—ENRD, P.O. Box 7611, Washington, DC 20044-7611.

Please enclose a check or money order for $4.75 (25 cents per page reproduction cost) payable to the United States Treasury. There are no exhibits attached to the Consent Decree.

Bob Brook,
Assistant Section Chief, Environmental Enforcement Section, Environment and Natural Resources Division.

[FR Doc. 2015-17350 Filed 7-14-15; 8:45 am]

BILLING CODE 4410-15-P